DEPARTMENT OF THE TREASURY

Submission for OMB Review; Comment Request

June 17, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 25, 2005 to be assured of consideration.

Internal Revenue Service (IRS)

OMB Number: 1545-1110.

Form Number: IRS Form 940-EZ.

Type of Review: Extension.

Title: Employer's Annual Federal Unemployment (FUTA) Tax Return.

Description: Form 4563 is a simplified form that most employers with uncomplicated tax situations (e.g., only paying unemployment contributions to one state and paying them on time) can use to pay their FUTA tax. Most small businesses and household employers use the form.

Respondents: Business and other for-profit, Individuals or households, Farms.

Estimated Number of Respondents/Recordkeepers: 4,089,000.

Estimated Burden Hours Respondent/Recordkeeper:

Recordkeeping—7 hrs., 8 min.

Learning about the law or the form—1 hr., 5 min.

Preparing and sending the form to the IRS—1 hr., 5 min.

Frequency of Response: Annually.

Estimated Total Reporting/Recordkeeping Burden: 36,162,483 hours.

Clearance Officer: Glenn P. Kirkland (202) 622-3428, Internal Revenue Service, Room 6516, 1111 Constitution Avenue, NW., Washington, DC 20224.

OMB Reviewer: Alexander T. Hunt (202) 395-7316, Office of Management and Budget, Room 10235, New Executive Office Building, Washington, DC 20503.

Lois K. Holland,
Treasury PRA Clearance Officer.

[FR Doc. 05-12533 Filed 6-23-05; 8:45 am]

BILLING CODE 4830-01-P